NUCLEAR REGULATORY COMMISSION

[NRC-2014-0009]

Maintaining the Effectiveness of License Renewal Aging Management Programs

AGENCY: Nuclear Regulatory Commission.

ACTION: Regulatory issue summary; issuance.

SUMMARY: The U.S. Nuclear Regulatory Commission (NRC) is issuing Regulatory Issue Summary (RIS) 2014-09, “Maintaining the Effectiveness of License Renewal Aging Management Programs.” This RIS reminds holders of renewed licenses of the requirements to maintain the effectiveness of their aging management programs and activities. The RIS explains that, in general, renewed license holders are obligated to maintain these programs and activities under their quality assurance program used to meet regulatory requirements.

ADDRESSES: Please refer to Docket ID NRC-2014-0009 when contacting the NRC about the availability of information regarding this document. You may obtain publicly-available information related to this document using any of the following methods:

• Federal Rulemaking Web site: Go to http://www.regulations.gov and search for Docket ID NRC-2014-0009. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may obtain publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The RIS is available electronically in ADAMS under Accession No. ML14058A398 and on the NRC's public Web site at http://www.nrc.gov/reading-rm/doc-collections/gen-comm/reg-issues/ (select RIS 2014-09).

• NRC's PDR: You may examine and purchase copies of public documents at the NRC's PDR, Room O1-F21, One White Flint North, 11555 Rockville Pike, Rockville, Maryland 20852.

FOR FURTHER INFORMATION CONTACT: James Keene, telephone: 301-415-1994, email: James.Keene@nrc.gov, or Anthony Markley, telephone: 301-415-3165; email: Anthony.Markley@nrc.gov, both are staff of the Office of Nuclear Reactor Regulation, U.S. Nuclear Regulatory Commission, Washington, DC 20555-0001.

SUPPLEMENTARY INFORMATION: The NRC published a notice of opportunity for public comment on this RIS in the Federal Register on January 16, 2014 (79 FR 2913). The NRC staff received one set of comments from the Nuclear Energy Institute.

The NRC staff considered all comments which resulted in some changes to the RIS. Its evaluation of these comments and the resulting changes to the RIS are discussed in a publicly available document, which is available in ADAMS under Accession No. ML14071A434.

Dated at Rockville, Maryland, this 6th day of August 2014.
For the Nuclear Regulatory Commission.
Sheldon D. Stuchell,
Chief, Generic Communications Branch, Division of Policy and Rulemaking, Office of Nuclear Reactor Regulation.

[FR Doc. 2014-19194 Filed 8-12-14; 8:45 am]

BILLING CODE 7590-01-P